DEPARTMENT OF THE INTERIOR

National Park Service

[NPS-WASO-NAGPRA-NPS0035424; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), the California State University, Sacramento has completed an inventory of human remains and associated funerary objects and has determined that there is a cultural affiliation between the human remains and associated funerary objects and Indian Tribes or Native Hawaiian organizations in this notice. The human remains and associated funerary objects were removed from Sacramento County, CA.

DATES: Repatriation of the human remains and associated funerary objects in this notice may occur on or after April 3, 2023.

ADDRESSES: Dr. Dianne Hyson, Dean of the College of Social Sciences and Interdisciplinary Studies, California State University, Sacramento, 6000 J Street Sacramento, CA 95819, telephone (916) 278-6504, email dhyson@csus.edu.

SUPPLEMENTARY INFORMATION: This notice is published as part of the National Park Service's administrative responsibilities under NAGPRA. The determinations in this notice are the sole responsibility of the California State University, Sacramento. The National Park Service is not responsible for the determinations in this notice. Additional information on the determinations in this notice, including the results of consultation, can be found in the inventory or related records held by the California State University, Sacramento.

Description

In 1965, human remains representing, at minimum, one individual were removed from site CA-SAC-113 (known, variously, as Calhoun #1, Calquhoun 1, and Sukididi) in Sacramento County, CA, by Dr. William Beeson for Sacramento State College (now California State University, Sacramento). Occupation of site SAC-113 is estimated to have occurred during the Late Horizon, with possible use during the Historic period. No known individual was identified. The 323 associated funerary objects include baked clay; faunal remains; flaked and ground stone; historic material; and modified bone, stone, and shell. Of this number, 129 objects are currently missing from the collection. California State University, Sacramento continues to look for these 129 missing objects.

In 1967 and 1972-73, human remains representing, at minimum, 378 individuals were removed from site CA-SAC-127 (known, variously, as Augustine Mound, Rooney Site, and Oo'Le-Waymah), which is located along Deer Creek in Sacramento County, CA. The 1967 excavations, located in a cemetery area known as the Rooney Extension, were led by William Beeson and Mark Grady for Sacramento State College (now California State University, Sacramento). The 1972-73 excavations, located in an area adjacent to the cemetery, were led by Jerald Johnson for Sacramento State College (now California State University, Sacramento). The landowner, Rooney Brothers, Inc., gifted the collections to Sacramento State. Occupation of the site is estimated to range from the Middle Horizon through Historic periods. The 24,850 associated funerary objects include baked clay; faunal and floral remains; flaked and ground stones; historic materials; modified shells, bones, stone, and wood; non-cultural items; soil samples; ash; charcoal; pigment; unidentified materials; unmodified stone; and thermally altered rock. Of this number, 136 objects are currently missing from the collection. California State University, Sacramento continues to look for these 136 missing objects.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folkloric, geographical, historical, kinship, linguistic, oral, traditional, and expert opinion.

Determinations

Pursuant to NAGPRA and its implementing regulations, and after consultation with the appropriate Indian Tribes and Native Hawaiian organizations, the California State University, Sacramento has determined that:

• The human remains described in this notice represent the physical remains of 379 individuals of Native American ancestry.

• The 25,173 objects described in this notice are reasonably believed to have been placed with or near individual human remains at the time of death or later as part of the death rite or ceremony.

• There is a relationship of shared group identity that can be reasonably traced between the human remains and associated funerary objects described in this notice and the Buena Vista Rancheria of Me-Wuk Indians of California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 3, 2023. If competing requests for repatriation are received, the California State University, Sacramento must determine the most appropriate requestor prior to repatriation. Requests for joint repatriation of the human remains and associated funerary objects are considered a single request and not competing requests. The California State University, Sacramento is responsible for sending a copy of this notice to the Indian Tribes identified in this notice.

Authority: Native American Graves Protection and Repatriation Act, 25 U.S.C. 3003, and the implementing regulations, 43 CFR 10.9, § 10.10, and § 10.14.

Dated: February 22, 2023.
Melanie O'Brien,
Manager, National NAGPRA Program.

[FR Doc. 2023-04260 Filed 3-1-23; 8:45 am]

BILLING CODE 4312-52-P